DEPARTMENT OF AGRICULTURE

Animal and Plant Health Inspection Service

[Docket No. APHIS-2007-0020]

Resident Canada Goose Management; Record of Decision

AGENCY: Animal and Plant Health Inspection Service, USDA.

ACTION: Notice.

SUMMARY: This notice advises the public of the Animal and Plant Health Inspection Service's Record of Decision for the Resident Canada Goose Management Final Environmental Impact Statement.

ADDRESSES: Copies of the Record of Decision and the Final Environmental Impact Statement on which the Record of Decision is based are available for public inspection at USDA, room 1141, South Building, 14th Street and Independence Avenue, SW., Washington, DC, between 8 a.m. and 4:30 p.m., Monday through Friday, except holidays. To be sure someone is there to help you, please call (202) 690-2817 before coming.

The Record of Decision may be viewed on the Wildlife Services Web site at http://www.aphis.usda.gov/regulations/ws/ws_nepa_environmental_documents.shtml. The final environmental impact statement may also be viewed on the Internet at http://www.fws.gov/migratorybirds/issues/cangeese/finaleis.htm.

Copies of the Record of Decision and the Final Environmental Impact Statement may be obtained from the person listed under FOR FURTHER INFORMATION CONTACT.

FOR FURTHER INFORMATION CONTACT: Mr. David S. Reinhold, National Environmental Manager, Operational Support Staff, WS, APHIS, 4700 River Road Unit 87, Riverdale, MD 20737-1235; (301) 734-7921.

SUPPLEMENTARY INFORMATION: This notice advises the public that the Animal and Plant Health Inspection Service (APHIS) has prepared a Record of Decision based on the Resident Canada Goose Final Environmental Impact Statement (EIS) prepared by the U.S. Fish and Wildlife Service (USFWS). APHIS was a cooperating agency in the preparation of the EIS. The USFWS published the notice of availability for the final EIS in the Federal Register on November 18, 2005 (70 FR 69985) and published its Record of Decision and Final Rule on August 10, 2006 (71 FR 45964). APHIS has independently reviewed the EIS and has concluded its comments and suggestions have been satisfied. APHIS has now prepared a Record of Decision on the adopted EIS and is making it available to the public. This record of decision has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 21st day of June 2007.
Kevin Shea,
Acting Administrator, Animal and Plant Health Inspection Service.

[FR Doc. E7-12447 Filed 6-26-07; 8:45 am]

BILLING CODE 3410-34-P